DEPARTMENT OF THE INTERIOR

Bureau of Land Management

[WO-350-1430-EU-24 1A; OMB Control Number 1004-0029]

Information Collection Submitted to the Office of Management and Budget Under the Paperwork Reduction Act

The Bureau of Land Management (BLM) will send a request to extend the current information collection to the Office of Management and Budget (OMB) under the provisions of the Paperwork Reduction Act (44 U.S.C. 3501 et seq.). On April 21, 2005, the BLM published a notice in the Federal Register (70 FR 20765) requesting comment on this information collection. The comment period ended on June 20, 2005. The BLM did not receive any comments. You may obtain copies of the collection of information and related forms and explanatory material by contacting the BLM Information Collection Clearance Officer at the telephone number listed below.

The OMB must respond to this request within 60 days but may respond after 30 days. For maximum consideration you comments and suggestions on the requirement should be directed within 30 days to the Office of Management and Budget, Interior Department Desk Officer (1004-0029), at OMB-OIRA via facsimile to (202) 395-6566 or e-mail to OIRA_DOCKET@omb.eop.gov. Please provide a copy of your comments to the U.S. Department of the Interior, Bureau of Land Management, Mail Stop 401LS, 1849 C Street, NW., Attention: Bureau of Information Collection Clearance Officer (WO-630), Washington, DC 20240.

Nature of Comments: We specifically request your comments on the following:

1. Whether the collection of information is necessary for the proper functioning of the BLM, including whether the information will have practical utility;

2. The accuracy of our estimates of the information collection burden, including the validity of the methodology and assumptions we use;

3. Ways to enhance the quality, utility and clarity of the information we collected; and

4. Ways to minimize the information collection burden on those who are to respond, including the use of appropriate automated, electronic, mechanical, or other forms of information technology.

Title: Color-of-Title: Conveyances Affecting Color or Claim of Title (43 CFR part 2540).

OMB Control Number: 1004-0029.

Bureau Form Number: 2540-1, 2540-2, and 2540-3.

Abstract: The BLM collects and uses the information to determine if an applicant meets the statutory requirements of the Color-of-Title Act and regulations 43 CFR part 2540.

Frequency: One.

Description of Respondents: Individuals, groups, or corporations.

Estimated Completion Time: 3 hours.

Annual Responses: 7.

Average Application Processing Fee Per Response: $10.

Annual Burden Hours: 21.

Bureau Clearance Officer: Ted Hudson, (202) 452-5033.

Dated: September 7, 2006.
Ted R. Hudson,
Bureau of Land Management, Information Collection Clearance Officer.

[FR Doc. 06-7608 Filed 9-12-06; 8:45 am]

BILLING CODE 4310-84-M